DEPARTMENT OF THE INTERIOR

Bureau of Reclamation

Alternatives for Meeting Water Needs in the Red River Valley, ND

AGENCY: Bureau of Reclamation, Interior.

ACTION: Notice of intent to prepare an environmental impact statement.

SUMMARY: On December 15, 2000, the 106th Congress passed the Dakota Water Resources Act of 2000, which was signed into law on December 21, 2000 (Public Law 106-554). Among other things, the Dakota Water Resources Act of 2000 (DWRA) states that, “the Secretary of the Interior shall conduct a comprehensive study of the water quality and quantity needs of the Red River Valley in North Dakota and possible options for meeting those needs” (Section 8(b)(1)). In addition, the DWRA states that, “pursuant to an agreement between the Secretary and State of North Dakota as authorized under section 19g) * * * the Secretary and the State of North Dakota shall jointly prepare and complete a draft environmental impact statement concerning all feasible options to meet the comprehensive water quality and quantity needs of the Red River Valley and the options for meeting those needs” (Section 8(c)(2)(A)).

Pursuant to section 102(2)(c) of the National Environmental Policy Act (NEPA) of 1969, as amended, the Bureau of Reclamation (Reclamation) and the State of North Dakota (ND) will jointly prepare this environmental impact statement (EIS). The State of North Dakota (ND) has designated the Garrison Diversion Conservancy District (GDCD) to serve as the State lead in preparation of the EIS for the Red River Valley Water Supply Project. Reclamation, acting under the authority of the Secretary of the Interior, is the lead Federal agency. Cooperating agencies will be identified at a later date.

Reclamation and the GDCD will use the NEPA compliance process to ensure that the public has opportunities to review and comment on long-term water supply and management alternatives for the Red River Valley Water Supply Project. Public comments are invited and encouraged regarding both the scope of environmental and socioeconomic issues and alternative that should be evaluated in the EIS.

Reclamation and the GDCD have scheduled six public scoping meetings in which Federal, State, local and tribal government agencies, non-governmental organizations, the public, and the international community are invited to participate in the open exchange of information and to submit comments on the proposed scope of the EIS. Each meeting will be preceded by a 2-hour open house during which Reclamation staff, GDCD staff, and other study participants will provide information and answer questions.

DATES: See SUPPLEMENTARY INFORMATION section for the locations, dates, and times of the scoping meetings.

Written comments on the scope of the issues and alternatives to be evaluated in the EIS will be accepted and should be postmarked or e-mailed no later than December 16, 2002, to be most effective.

ADDRESSES: Written comments should be submitted to: Bureau of Reclamation, Dakotas Area Office, P.O. Box 1017, Bismarck ND 58502.

FOR FURTHER INFORMATION CONTACT: Signe Snortland, Red River Valley Water Supply Project EIS, Bureau of Reclamation, Dakotas Area Office, P.O. Box 1017, Bismarck ND 58502; Telephone: (701) 250-4242 extension 3619; or FAX to (701) 250-4326. You may submit e-mail ssnortland@gp.usbr.gov or access the Red River Valley Water Supply Project web site at http://www.usbr.gov/gp/dkao/rrvwsp.htm.

SUPPLEMENTARY INFORMATION: In 1944, the U.S. Congress passed the Flood Control Act (the Missouri-Basin Pick Sloan Act), which authorized the construction of dams on the Missouri River and its tributaries. The Garrison Diversion Unit (GDU) was authorized in 1965, and construction began in 1967. The project was designed to divert Missouri River water to central and eastern ND for irrigation; fish and wildlife enhancement; municipal, rural, and industrial (MR&I) water supply; and recreation development. Most of the currently authorized principal supply works have been completed, except for about a 20-mile reach between the end of the Mccluskey Canal and beginning of the New Rockford Canal.

The project was reformulated in 1986 to reduce the emphasis on irrigation and increase the emphasis on meeting the MR&I water needs throughout ND. The 1986 Reformulation Act authorized a Sheyenne River water supply and release feature and water treatment plant capable of delivering 100 cubic feet per second of water to eastern ND.

The authorization for the GDU was amended again in December 2000 by DWRA. The DWRA requires that an EIS and feasibility-level study be prepared to aid decision-making on a preferred alternative for meeting water needs in the Red River Valley in North Dakota.

Development of a reliable water supply for the Red River Valley has been a subject of great interest to local residents, along with government agencies and entities concerned with water management and development. Although rivers in eastern ND such as the Red and Sheyenne rivers are prone to flooding and excessive runoff, they also experience low flow and drought conditions such as those that occurred in the 1930's and 1980's.

In 1994, Reclamation initiated an appraisal-level (preliminary) assessment of MR&I water needs in the Red River Valley as an outcome of the ND Water Management Collaborative Process. That study was completed in two phases. The first phase was further subdivided into parts A & B. Phase IA compared the existing and projected future MR&I water needs in the Red River Valley with the surface water flows and groundwater resources available to meet those needs. That report, completed in April 1998, concluded that significant shortages could occur during droughts if no action is taken.

The Phase IB report provided an evaluation of seasonal instream flow needs for water quality and maintenance of aquatic life in the Sheyenne and Red rivers. That report was finalized in August 1999.

The Phase II report presented a range of preliminary alternatives to meet the shortages identified in the Phase IA report. These alternatives included both in-basin and out-of-basin water supplies along with water conservation and a variety of management and operational techniques.

Purpose of and Need for the Federal Action

The Red River Valley Water Supply Project EIS will evaluate alternative ways to meet the comprehensive “water quality and quantity needs of the Red River Valley in North Dakota” [DWRA Section 8(b)(1)]. The needs are defined as municipal, rural, and industrial supplies; water quality; aquatic environment; recreation; and water conservation measures [Section 8(b)(2)].

Proposed Alternatives

As required by Council on Environmental Quality (CEQ) implementing regulations (40 CFR 1502.2[e]), a full range of reasonable alternatives will be evaluated in the EIS. These alternatives will include No Action and development of in-basin and out-of-basin water sources. The EIS will evaluate potential environmental impacts of specific alternatives together with engineering and socioeconomic considerations. A preferred alternative has not been identified at this time.

Eight preliminary alternatives, including No Action, were described in the Phase II Needs Assessment. These alternatives were:

• No Action. This alternative represents the reasonably foreseeable future condition if a Red River Valley Water Supply Project is not constructed.

• Construction of a new water supply reservoir on the Sheyenne River near Kindred.

• Raising the height of Baldhill Dam on the Sheyenne River near Valley City to increase water storage.

• Development of groundwater resources including purchase of existing rights, new well fields, desalinization, and aquifer storage and recovery.

• Importation of Missouri River water via a pipeline from Bismarck to Fargo.

• Importation of Missouri River water via a pipeline from Lake Oahe south of Bismarck to the vicinity of Wahpeton.

• Importation of Missouri River water to the upper Sheyenne River utilizing existing GDU principal supply works.

• Importation of Missouri River water via a system of closed pipelines from the GDU principal supply works to cities, industries, and rural water systems.

• Other potential water sources including Minnesota sub-basins and Devils Lake may be evaluated in detail in the EIS. Comments or suggestions on these alternatives or suggestions of other alternatives that should be considered are welcome.

Preliminary Identification of Environmental Issues

The following issues have been tentatively identified for analysis in the EIS. This list is preliminary and is intended to facilitate public comment on the scope of this EIS. It is not intended to be all-inclusive nor does it imply any predetermination of potential impacts. Reclamation and the GDCD invite comments on this list:

• Impacts on streams and lakes, groundwater, floodplains, wetlands, and on water uses and quality.

• Impacts on aquatic and terrestrial plants and animals and their habitats including species that are federally or State-listed as threatened or endangered, proposed, candidate, or of special concern and/or critical habitat.

• Potential impacts from the transfer of biota, including parasites and pathogens, between the Missouri River basin and the Hudson Bay basin.

• Potential impacts to Canadian waters due to transfer of harmful iota or changes in water quality or quantity.

• Potential cumulative environmental impacts to the Missouri River from past, present, and foreseeable future withdrawals.

• Potential cumulative environmental impacts to the Sheyenne and Red rivers, including effects of the proposed Devils Lake outlet as well as other reasonably foreseeable discharges or withdrawals.

• Impacts on cultural resources such as historic, archaeological, architectural, or traditional properties.

• Socioeconomic impacts on affected communities related to long-term water supply and management.

• Environmental justice, particularly whether or not water management activities have a disproportionately high and adverse effect on minority and low-income populations.

• Compliance with all applicable Federal, State, and local statutes and regulations and with international agreements and required Federal and State environmental permits, consultations, and notifications.

• Compliance with all applicable Executive Orders.

Timing

Reclamation and the GDCD plan to issue the draft EIS by December 2005. Reclamation and the U.S. Environmental Protection Agency will separately publish notices of availability of the draft EIS in the Federal Register. Reclamation and GDCD will publicize the availability of the draft EIS in other media and will provide opportunities for Federal, State, local and tribal government agencies, non-governmental organizations, the general public, and the international community to participate in additional information forums and to submit comments.

Locations, Dates and Times of Scoping Meetings

• Monday, October 28, 2002, 7 p.m., Fargo, North Dakota, Fargo Civic Auditorium, 207 4th Street North, lower level, Room A

• Tuesday, October 29, 2002, 7 p.m., Valley City, North Dakota, AmericInn Hotel, 330 Wintershow Road

• Wednesday, October 30, 2002, 7 p.m., Grand Forks, North Dakota, Grand Forks City Council Chambers, 225 North 4th Street, third floor

• Wednesday, November 6, 2002, 7 p.m., Pembina, North Dakota, Pembina State Museum, Exit 215 off of Interstate 29, 805 Highway 59

• Thursday, November 7, 2002, 7 p.m., Wahpeton, North Dakota, Wahpeton City Hall, 1900 4th Street North, Community Room

• Friday, November 8, 2002, 1:00 p.m., Bismarck, North Dakota, Doublewood Hotel, Interstate 94 and Exit 159

Issues raised at the scoping meetings will be documented in the Scope of Statement (SOS) for the Red River Valley Water Supply Project EIS. The objectives of this report are to summarize the essence of the comments in a clear and concise manner and to accurately portray the scope of the EIS. The SOS will be distributed to public libraries near the meeting locations, posted on Reclamation's Red River Valley Water Supply Project EIS web page, and mailed upon request.

Public Disclosure Statement

Comments received in response to this notice will become part of the administrative record for this project and are subject to public inspection. Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: September 12, 2002.
Maryanne C. Bach,
Regional Director, Great Plains Region.

[FR Doc. 02-25514 Filed 10-7-02; 8:45 am]

BILLING CODE 4310-MN-M